DEPARTMENT OF JUSTICE

Antitrust Division

Notice Pursuant to the National Cooperative Research and Production Act of 1993—The Digital Subscriber Line Forum

Notice is hereby given that, on December 31, 2003, pursuant to section 6(a) of the National Cooperative Research and Production Act of 1993, 15 U.S.C. 4301 et seq. (“the Act”), The Digital Subscriber Line Forum (“DSL”) filed written notifications simultaneously with the Attorney General and the Federal Trade Commission disclosing changes in its membership. The notifications were filed for the purpose of extending the Act's provisions limiting the recovery of antitrust plaintiffs to actual damages under specified circumstances. Specifically, Acterna, Salem, VA; Arcadyan Technology Corp., Hsin Chu, TAIWAN; Calix Networks, Petaluma, CA; Celsian Technologies, Tustin, CA; Cincinnati Bell Telephone, Cincinnati, OH; Critical Telecom, Ottawa, Ontario, CANADA; Cybertan Technology, Hsin Chu, TAIWAN; Mindspeed, Newport Beach, CA; National Technical Systems, Culver City, CA; Pirelli, Milan, ITALY; Silicon & Software Systems, San Jose, CA; Sprint Canada, Toronto, Ontario, CANADA; Wintegra, Blantyre, Glasgow, UNITED KINGDOM; and Yahoo, Sunnyvale, CA, have been added as parties to this venture.

No other changes have been made in either the membership or planned activity of the group research project. Membership in this group research project remains open, and DSL intends to file additional written notifications disclosing all changes in membership.

On May 15, 1995, DSL filed its original notification pursuant to Section 6(a) of the Act. The Department of Justice published a notice in the Federal Register pursuant to section 6(b) of the Act on July 25, 1995 (60 FR 38058).

The last notification was filed with the Department on September 26, 2003. A notice was published in the Federal Register pursuant to Section 6(b) of the Act on November 12, 2003 (68 FR 64124).

Dorothy B. Fountain,
Deputy Director of Operations, Antitrust Division.

[FR Doc. 04-3985 Filed 2-23-04; 8:45 am]

BILLING CODE 4410-11-M